DEPARTMENT OF JUSTICE

Drug Enforcement Administration

[Docket No. DEA-392]

Bulk Manufacturer of Controlled Substances Application: Eli-Elsohly Laboratories

ACTION: Notice of application.

DATES: Registered bulk manufacturers of the affected basic classes, and applicants therefore, may file written comments on or objections to the issuance of the proposed registration on or before August 12, 2019.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on March 14, 2019, Eli-Elsohly Laboratories, Mahmoud A. Elsohly Ph.D., 5 Industrial Park Drive, Oxford, Mississippi 38655 applied to be registered as a bulk manufacturer of the following basic classes of controlled substances:

Controlled substance | Drug code | Schedule
Marihuana Extract | 7350 | I
Marihuana | 7360 | I
Tetrahydrocannabinols | 7370 | I
Dihydromorphine | 9145 | I
Amphetamine | 1100 | II
Methamphetamine | 1105 | II
Cocaine | 9041 | II
Codeine | 9050 | II
Dihydrocodeine | 9120 | II
Oxycodone | 9143 | II
Hydromorphone | 9150 | II
Ecgonine | 9180 | II
Hydrocodone | 9193 | II
Morphine | 9300 | II
Thebaine | 9333 | II
Oxymorphone | 9652 | II

The company plans to manufacture the listed controlled substances for product development and reference standards. In reference to drug codes 7360 (marihuana) and 7370 (THC), the company plans to isolate these controlled substances from procured 7350 (marihuana extract). In reference to drug code 7360, no cultivation activities are authorized for this registration. No other activities for these drug codes are authorized for this registration.

Dated: June 3, 2019.
John J. Martin,
Assistant Administrator.

[FR Doc. 2019-12505 Filed 6-12-19; 8:45 am]

BILLING CODE 4410-09-P